DEPARTMENT OF TRANSPORTATION

Surface Transportation Board

[STB Docket No. AB-295 (Sub-No. 7X)]

The Indiana Rail Road Company—Abandonment Exemption—in Martin and Lawrence Counties, IN

On December 7, 2009, the Indiana Rail Road Company (INRD), filed with the Surface Transportation Board (Board) a petition under 49 U.S.C. 10502 for exemption from the provisions of 49 U.S.C. 10903 to abandon 22.80 miles of rail line in Martin and Lawrence Counties, IN, comprised of the Crane-Bedford Line extending from milepost 241.35 near Crane, IN, to milepost 262.50 in Bedford, IN, and the Bedford Industrial Track extending from Bedford Industrial Track railroad milepost 0.00 at Crane-Bedford milepost 262.40, to Bedford Industrial Track railroad milepost 1.65. The line traverses U.S. Postal Service Zip Codes 47581, 47470, and 47421, and includes the stations of Williams at milepost 251.40 and Bedford at milepost 262.50.

INDR states that the line does not contain Federally granted rights-of-way. Any documentation in INRD's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by March 26, 2010.¹

¹ In its petition, INRD requests that the Board render its decision on the petition immediately effective if it is issued after February 28, 2010. This request will be addressed in the decision on the merits of the petition.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use.² Any request for a public use condition under 49 CFR 1152.28 or for trail use/rail banking under 49 CFR 1152.29 will be due no later than January 12, 2010.³ Each trail use request must be accompanied by a $250 filing fee. See 49 CFR 1002.2(f)(27).

² INRD notes that it acquired its interest in the line by quit claim. INRD states that it is investigating the nature of its title to the right-of-way, and that the outcome of this investigation may affect how it chooses to proceed with regard to trail use negotiations. INRD also states that part of the Crane-Bedford Line runs through the Naval Surface Warfare Center at Crane, and that security requirements may limit the availability of the right-of-way at that location.

³ INRD also petitions for exemption from any condition imposed under 49 U.S.C. 10905 that would prohibit or delay the recovery and reuse of the line's rail, ties, and other track materials and ballast. The Board will address this request in the decision on the merits, if necessary.

All filings in response to this notice must refer to STB Docket No. AB-295 (Sub-No. 7X), and must be sent to: (1) Surface Transportation Board, 395 E Street, SW., Washington, DC 20423-0001, and (2) John Broadley, John H. Broadley & Associates, P.C., 1054 31st Street, NW., Suite 200, Washington, DC 20007. Replies to INRD's petition are due on or before January 12, 2010.

Persons seeking further information concerning abandonment procedures may contact the Board's Office of Public Assistance, Governmental Affairs and Compliance at (202) 245-0238 or refer to the full abandonment or discontinuance regulations at 49 CFR part 1152. Questions concerning environmental issues may be directed to the Board's Section of Environmental Analysis (SEA) at (202) 245-0305. Assistance for the hearing impaired is available through the Federal Information Relay Service (FIRS) at 1-800-877-8339.

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA generally will be within 30 days of its service.

Board decisions and notices are available on our Web site at “http://www.stb.dot.gov.”

Decided: December 18, 2009.
By the Board, Rachel D. Campbell, Director, Office of Proceedings.
Kulunie L. Cannon,
Clearance Clerk.

[FR Doc. E9-30473 Filed 12-22-09; 8:45 am]

BILLING CODE 4915-01-P